Title 3—

The President

Proclamation 10552 of April 14, 2023

Days of Remembrance of Victims of the Holocaust, 2023

By the President of the United States of America

A Proclamation

During Yom HaShoah and throughout these days of remembrance, we mourn the six million Jews who were murdered during the horror of the Holocaust—as well as the millions of Roma and Sinti, Slavs, disabled persons, LGBTQI+ individuals, and political dissidents who were murdered at the hands of the Nazis and their collaborators. Together with courageous survivors, descendants of victims, and people around the world, we renew our solemn vow: “never again.”

Last year, I returned to Yad Vashem, the World Holocaust Remembrance Center, to pay tribute to the lives that were stolen during this dark chapter of our history and to honor their memory. I will never forget meeting with two survivors on that sacred ground and hearing their stories. The horrors of the Holocaust are painful to recount—the savage murder of innocent families and the systemic dehumanization of entire populations. We remember the cries for help that went unanswered and the bright futures cut short. We must never look away from the truth of what happened. The rite of remembrance becomes more urgent with each passing year, as fewer survivors remain to share their stories and open our eyes to the harms of unchecked hatred.

Unfortunately, hatred never truly goes away. It only hides—lurking until it is given the oxygen to emerge again. We have seen this hard truth across our country, from swastikas on cars and antisemitic banners on bridges to attacks against Jewish people at schools and synagogues and outright Holocaust denialism. The venom and violence of antisemitism goes against all the values we stand for as Americans. And it is a stark reminder—as my dear friend Elie Wiesel once said—that “Indifference is always the friend of the enemy.” And as my father taught me, “silence is complicity.”

My Administration has not and will not be indifferent. That is why I appointed Deborah Lipstadt, a historian of the Holocaust, as the first Ambassador-level Special Envoy to Monitor and Combat Antisemitism. We are developing a national strategy to counter antisemitism—mobilizing the full weight of the Federal Government to fight this scourge of hate in America—and we have co-sponsored a United Nations resolution to combat Holocaust denial through education. We secured the largest increase in funding ever for the physical security of nonprofits, including synagogues, Jewish Community Centers, Jewish day schools, and other houses of worship. And I convened the first-ever White House summit on combating hate-fueled violence because nobody should fear going to a religious service, wearing a symbol of their faith, or simply being who they are.

Hate must have no safe harbor in America or anywhere else. Today and always, we make our message clear: Evil will not win. Hate will not prevail. And the violence of antisemitism will not be the story of our time. Together, we can ensure that “never again” is a promise we keep.

NOW, THEREFORE, I, JOSEPH R. BIDEN JR., President of the United States of America, by virtue of the authority vested in me by the Constitution and the laws of the United States, do hereby proclaim April 16 through April 23, 2023, as a week of observance of the Days of Remembrance of Victims of the Holocaust, and I call upon the people of the United States to observe this week and pause to remember victims and survivors of the Holocaust.

IN WITNESS WHEREOF, I have hereunto set my hand this fourteenth day of April, in the year of our Lord two thousand twenty-three, and of the Independence of the United States of America the two hundred and forty-seventh.

[FR Doc. 2023-08430

Filed 4-18-23; 11:15 am]

Billing code 3395-F3-P